DEPARTMENT OF ENERGY

Federal Energy Regulatory Commission

[Docket No. PL04-3-000]

Natural Gas Interchangeability; Notice of Technical Conference

April 13, 2005.

On February 28, 2005, the Natural Gas Council (NGC) filed two reports in the captioned docket: White Paper on Liquid Hydrocarbon Drop Out in Natural Gas Infrastructure and White Paper on Natural Gas Interchangeability and Non-Combustion End Use. Representatives of the NGC summarized the reports at the Commission's March 2, 2005 open meeting. Subsequently, the Commission received a number of written comments on the reports. The Commission posted the reports on its website at http://www.ferc.gov, and the public comments are also available on the Commission's Web site under the eLibrary system.

The Commission will hold a technical conference on May 17, 2005, to consider further comments on the NGC reports and recommendations for Commission action on natural gas quality and liquefied natural gas interchangeability issues. The conference will be held at the offices of the Commission at 888 First Street, NE., in Washington, DC. beginning at 9:30 a.m. (e.s.t.) in Hearing Room 1. An overflow room will be available to accommodate expected meeting attendance. For further information about the conference, please contact Andrea Hilliard at (202) 502-8288 or e-mail andrea.hilliard@ferc.gov, Ed Murrell at (202) 502-8703 or e-mail ed.murrell@ferc.gov and Joseph Caramanica at (202) 502-8095 or e-mail joseph.caramanica@ferc.gov).

An agenda detailing the matters to be addressed and identifying speakers will be issued in the near future. In addition to direct presentations, the Commission will provide an open forum that will give all interested individuals an opportunity to respond to the presentations or present other views on the issues discussed. The Commission intends to use the reports, written comments and presentations at the technical conference to form its decisions as to how it should address issues of natural gas quality and natural gas interchangeability.

Capitol Connection will offer the opportunity for remote listening and viewing of the conference. It may be available for a fee, live or over the Internet, via C-Band Satellite. Persons interested in receiving the broadcast, or who need information on making arrangements should contact David Reininger or Julia Morelli at Capitol Connection (703) 993-3100 as soon as possible or visit the Capitol Connection Web site at http://www.capitolconnection.gmu.edu and click on “FERC.”

Commission conferences are accessible under section 508 of the Rehabilitation Act of 1973. For accessibility accommodations, please send an e-mail to accessibility@ferc.gov or call toll-free (866) 208-3372 (voice) or (202) 208-1659 (TTY), or send a FAX to (202) 208-2106 with the required accommodations.

Linda Mitry,
Deputy Secretary.

[FR Doc. E5-1832 Filed 4-18-05; 8:45 am]

BILLING CODE 6717-01-P